DEPARTMENT OF TRANSPORTATION

Federal Aviation Administration

[Docket No. FAA-2022-0193]

Agency Information Collection Activities: Requests for Comments; Clearance of New Approval of Information Collection: ICAO CO2 Certification Database

AGENCY: Federal Aviation Administration (FAA), DOT.

ACTION: Notice and request for comments.

SUMMARY: In accordance with the Paperwork Reduction Act of 1995, FAA invites public comments about our intention to request the Office of Management and Budget (OMB) approval for a new information collection. The initial Federal Register Notice with a 60-day comment period soliciting comments on the following collection of information was published on April 26, 2022. The collection involves the possibility for airplane manufacturers, for which a newly built airplane is subject to the applicability of Annex 16, Volume III of the Convention on Civil Aviation (hereinafter the “Chicago Convention”), to submit an electronic datasheet to the FAA for posting to the CO2 Certification Database (CO2DB). The information to be collected will be necessary because of FAA's commitment to help (a) provide publicly available data on the CO2 Metric Value (MV) which represents a measure of fuel burn performance of airplane types against CO2 technology/design standards, (b) track and communicate the improvement in airplane CO2 MVs over time and (c) provide an incentive to improve the CO2 MV of airplane types.

DATES: Written comments should be submitted by January 6, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Laszlo Windhoffer by email at: Laszlo.Windhoffer@faa.gov; phone: 202-267-4741.

SUPPLEMENTARY INFORMATION:

Supporting Statement A

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-XXXX.

Title: ICAO CO2 Certification Database (CO2DB).

Form Numbers: FAA Form 1240-6.

Type of Review: Clearance of a new information collection.

Background: The initial Federal Register Notice with a 60-day comment period soliciting comments on the following collection of information was published on April 26, 2022 (87 FR 24606).

In March 2017, the International Civil Aviation Organization (ICAO) Council adopted the Volume III of Annex 16 of the Chicago Convention (Environmental Protection) for the implementation of a new airplane CO2 emissions standard. The Standard will apply to new airplane type designs from 2020, and to airplane type designs already in-production as of 2023. Those in-production airplane which by 2028 do not meet the standard will no longer be able to be produced unless their designs are sufficiently modified to comply with the in-production standard.

To support the implementation of Annex 16 Volume III, ICAO agreed that, similar to noise and engine emissions, an ICAO CO2 Certification Database (CO2DB) should be developed and continuously maintained in a publicly accessible manner. The U.S. Federal Aviation Administration will host the new database on behalf of ICAO.

The aim of the CO2DB is to (a) Provide publicly available data on the CO2 Metric Value (MV) which represents a measure of fuel burn performance of airplane types against CO2 technology/design standards, (b) Track and communicate the improvement in airplane CO2 MVs over time and (c) Provide an incentive to improve the CO2 MV of airplane types.

The collection of data towards the CO2DB is expected to leverage the Airplane Airworthiness Certification process, which includes; airplane performance measurement, computation of relevant metrics (e.g., CO2 MV) and submission of the information to the Certificating Authority (CA) of the State of Design. As part of the airworthiness certification process, the data/information is reviewed by the CA and approved. Given that the submission of information into the CO2DB is voluntary, it is expected that the applicant (e.g., airplane manufacturer) will decide to submit a CO2DB Datasheet to its CA and ultimately to the U.S. FAA. If the applicant decides to submit information to the CO2DB, the applicant will prepare a CO2DB Datasheet by using the CO2DB Datasheet Template that will be publicly available via the CO2DB web page expected to be hosted on the FAA Office of Environment and Energy website. Once the U.S. FAA collects the CO2DB Datasheets it may conduct an information check to identify any gross errors or mistakes. Similar to other ICAO environment databases, the entity submitting the information (in this case the applicant) will be solely responsible for the accuracy of the information. If there are any questions about submissions, the U.S. FAA will communicate with the applicant to attempt to address any issues.

CO2DB Datasheets will then be integrated into the CO2DB and the records of changes will be updated. It is expected that the database will be available for download in a common table format (e.g., Microsoft Excel file) as well as a collection of the submitted CO2DB Datasheets. Additional background and supporting information will also be available on the CO2DB website along with a Support Function communication mechanism (e.g., email address).

Respondents: Respondents will be airplane manufacturers (or “applicants”) subject to the applicability of Annex 16, Volume III of the Chicago Convention. From the outset, FAA expects about 3 U.S. airplane applicants to submit CO2DB Datasheets for their certified airplanes. It should be noted that additional respondents from outside the United States (i.e., Airplane Manufacturers for which the Certificating Authority is another ICAO Member State than the United States) are expected to submit CO2DB Datasheets to the CO2DB for their certified airplane. These non-US applicants were assumed to be outside the scope of the burden analysis contained in Supporting Statement A and were therefore not included as respondents.

Frequency: If they decide to submit information to the CO2DB, the manufacturers will submit data after the certification of an airplane. It is expected that manufacturers would submit one CO2DB Datasheet for each airplane model. As described in Supporting Statement A and based on historical frequency of airplane certification, each U.S. manufacturer could be expected to certificate up to two new models every three years. Thus, in mathematical terms, the FAA would expect to receive an average of two thirds of one datasheet per year and per respondent.

Estimated Average Burden per Response: It is expected that filling and submitting a CO2DB Datasheet could take approximately 2.5 hours.

Estimated Total Annual Burden: Based on the above, FAA expects that the annual submission of CO2DB Datasheet by U.S. airplane manufacturers could take approximately 5 hours for an average of 2 submissions per year ($368 in filing and submission costs). This is estimated for all 3 U.S. airplane manufacturers.

Issued in Washington, DC, on December 1, 2022.
Kevin Welsh,
Executive Director, Office of Environment and Energy, Federal Aviation Administration.

[FR Doc. 2022-26547 Filed 12-6-22; 8:45 am]

BILLING CODE 4910-13-P